DEPARTMENT OF JUSTICE

Antitrust Division

Notice Pursuant to the National Cooperative Research and Production Act of 1993—Alliance for Telecommunications Industry Solutions

Notice is hereby given that, on September 20, 2004, pursuant to section 6(a) of the National Cooperative Research and Production Act of 1993, 15 U.S.C. 4301 et seq. (“the Act”), Alliance for Telecommunications Industry Solutions (“ATIS”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Alliance for Telecommunications Industry Solutions, Washington, DC. The nature and scope of ARIS' standards development activities are: To develop and promote technical and operations standards for the communications and related information technologies industry worldwide using a pragmatic, flexible and open approach.

Dorothy B. Fountain,
Deputy Director of Operations, Antitrust Division.

[FR Doc. 04-27538 Filed 12-15-04; 8:45 am]

BILLING CODE 4410-11-M